DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession of the New York University College of Dentistry, New York, NY. The human remains were removed from Port Clarence, Nome County, AK.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by New York University College of Dentistry professional staff in consultation with representatives of the Native Village of Brevig Mission and Native Village of Teller.

At an unknown date, human remains representing a minimum of one individual were removed from an unidentified site at Port Clarence, Nome County, AK, by an unknown individual. By 1924, the human remains were donated to the Museum of the American Indian, Heye Foundation by Mrs. George Heye. In 1956, the human remains were transferred to Dr. Theodore Kazamiroff, New York University College of Dentistry (NYUCD #334). No known individual was identified. No associated funerary objects are present.

Museum of the American Indian records list the origin of the human remains as Port Clarence, AK, which is located on the Seward Peninsula. The morphology of the human remains is consistent with Native American ancestry. In the late 19th century, Edward William Nelson, Smithsonian Institution naturalist, observed burials in the region. The human remains were placed in wooden boxes that were elevated onto poles. The boxes or poles were marked with totems to which tools or other necessary items were attached. The boxes were exposed and highly visible to collectors. Based on the preservation observed in excavations on the Seward Peninsula, it is likely that the human remains are associated with the Western Thule tradition, and postdate A.D. 1000.

In the Western Thule tradition, the people of the Seward Peninsula were highly localized, with differences in their lifeways based on the particular resources available in their territory. Localization may have occurred alongside the development of geopolitical boundaries. Port Clarence was focused on whaling, and was part of the Sinrarmiut or Port Clarence territory of Inupiaq speakers at the time of European contact. Today, the descendants of the people of Port Clarence are represented by the Native Villages of Brevig Mission and Teller. Both communities made seasonal use of Port Clarence in the 20th century, and tribal representatives have identified Port Clarence as part of their ancestral territory.

Officials of New York University College of Dentistry have determined that, pursuant to 25 U.S.C. 3001(9), the human remains described above represent the physical remains of one individual of Native American ancestry. Officials of New York University College of Dentistry also have determined that, pursuant to 25 U.S.C. 3001(2), there is a relationship of shared group identity that can be reasonably traced between the Native American human remains and the Native Village of Brevig Mission and Native Village of Teller.

Representatives of any other Indian tribe that believes itself to be culturally affiliated with the human remains should contact Dr. Louis Terracio, New York University College of Dentistry, 345 East 24th St., New York, NY 10010, telephone (212) 998-9917, before September 23, 2010. Repatriation of the human remains to the Native Village of Brevig Mission and Native Village of Teller may proceed after that date if no additional claimants come forward.

The New York University College of Dentistry is responsible for notifying the Native Village of Brevig Mission and Native Village of Teller that this notice has been published.

Dated: August 18, 2010.
David Tarler,
Acting Manager, National NAGPRA Program.

[FR Doc. 2010-20950 Filed 8-23-10; 8:45 am]

BILLING CODE 4312-50-S